DEPARTMENT OF AGRICULTURE

Farm Service Agency

Request for Extension of a Currently Approved Information Collection; Operating Loans; Policies, Procedures, Authorizations and Closings

AGENCY: Farm Service Agency, USDA.

ACTION: Notice and request for comments.

SUMMARY: In accordance with the Paperwork Reduction Act of 1995, this notice announces the intent of the Farm Service Agency (FSA) to request renewal of the information collection currently approved and used in support of the FSA Farm Loan Programs (FLP). The collection of information from FLP applicants and commercial lenders is used to determine eligibility; financial feasibility and security positions when the applicant applies for direct loan assistance.

DATES: Comments on this notice must be received on or before March 19, 2007 to be assured consideration.

FOR FURTHER INFORMATION CONTACT: Cathy Quayle, Senior Loan Officer, USDA, Farm Service Agency, Loan Making Division, 1400 Independence Avenue, SW., Stop 0522, Washington, DC 20250-0522; Telephone (202) 690-4018; Electronic mail: cathyquayle@wdc.usda.gov.

SUPPLEMENTARY INFORMATION: Title: Operating Loans; Policies, Procedures, Authorizations and Closings.

OMB Control Number: 0560-0162.

Expiration Date of Approval: July 31, 2007.

Type of Request: Extension of a Currently Approved Information Collection.

Abstract: The information collected under OMB Control Number is 0560-0162 is necessary to effectively administer the operating loan program in accordance with the requirements in 7 CFR part 1941 as authorized by the Consolidated Farm and Rural Development Act. Specifically, the Agency uses the information to evaluate loan making or loan servicing proposals, and to process loan closings. The information is needed to evaluate an applicant's eligibility, and to determine if the operation is economically feasible and if the security offered in support of the loan is adequate.

Estimate of Annual Respondent Burden: Public reporting burden for this collection of information is estimated to average .12 hours per response.

Respondents: Individuals or households, businesses or other for profit and farms.

Estimated Number of Respondents: 51,466.

Estimated Number of Responses per Respondent: 1.

Estimated Total Annual Burden on Respondents: 6,176.

Comments are invited on the following: (a) Whether the collection of information is necessary for the proper performance of the functions of the agency, including whether the information will have practical utility; (b) the accuracy of the agency's estimate of burden, including the validity of the methodology and assumptions used; (c) ways to enhance the quality, utility and clarity of the information to be collected; and (d) ways to minimize the burden of the collection of information on those who are to respond, including through the use of appropriate automated, electronic, mechanical, or other technological collection techniques or other forms of information technology. These comments should be sent to the Desk Officer for Agriculture, Office of Information and Regulatory Affairs, Office of Management and Budget, Washington, DC 20503 and to Cathy Quayle, Senior Loan Officer, USDA, Farm Service Agency, Loan Making Division, 1400 Independence Avenue, SW., STOP 0522, Washington, DC 20250-0522.

Comments will be summarized and included in the request for Office of Management and Budget approval of the information collection. All comments will also become a matter of public record.

Signed in Washington, DC on January 10, 2007.
Thomas B. Hofeller,
Acting Administrator, Farm Service Agency.

[FR Doc. E7-599 Filed 1-17-07; 8:45 am]

BILLING CODE 3410-05-P